DEPARTMENT OF AGRICULTURE

Agricultural Marketing Service

[Doc. Nos. AMS-TM-12-0050; TM-12-02]

Request for Extension and Revision of a Currently Approved Information Collection for the National Farmers Market Questionnaire

AGENCY: Agricultural Marketing Service, USDA.

ACTION: Request for comments.

SUMMARY: In accordance with the Paperwork Reduction Act of 1995 (44 U.S.C. Chapter 35), this document announces the Agricultural Marketing Service's (AMS) intention to request approval, from the Office of Management and Budget, for an extension of and revision to the currently approved information collection for the National Farmers Market Manager Questionnaire.

DATES: Comments on this document must be received by January 4, 2013 to be assured of consideration.

ADDRESSES: Interested persons are invited to submit comments concerning this information collection document. Comments can be sent to Edward Ragland, Marketing Services Division, Transportation and Marketing Programs, Agricultural Marketing Service, U.S. Department of Agriculture, 1400 Independence Ave. SW., Room 4523 South Building, Ag Stop 0269, Washington, DC 20250-0269 or online to http://www.regulations.gov. All written comments should be identified with the document numbers AMS-TM-12-0050; TM-12-02. All comments received will be available for public inspection during regular business hours at the same address. It is our intention to have all comments whether submitted by mail or internet available for viewing on the Regulations.gov (www.regulations.gov) Internet site. Comments submitted will also be available for public inspection in person at USDA-AMS, Transportation and Marketing Programs, Marketing Services Division, Room 2646—South Building, 1400 Independence Ave. SW., Washington, DC, from 9 a.m. to 12 noon and from 1 p.m. to 4 p.m., Monday through Friday, (except official Federal holidays). Persons wanting to visit the USDA South Building to view comments received are requested to make an appointment in advance by calling (202) 720-8317.

FOR FURTHER INFORMATION CONTACT: Edward Ragland at the above physical address or by telephone (202) 720-8317 or by email at Edward.Ragland@usda.gov.

SUPPLEMENTARY INFORMATION:

Title: National Farmers Market Questionnaires.

OMB Number: 0581-0169.

Expiration Date of Approval: March 31, 2013.

Type of Request: Extension and revision of a currently approved information collection of the National Farmers Market Questionnaire.

Abstract: Under the Agricultural Marketing Act of 1946, as amended (7U.S.C. 1621 et seq.), AMS is responsible for conducting research to enhance market access for small and medium sized farmers. The role of the Marketing Services Division (MSD) of AMS is to facilitate distribution of U.S. agricultural products. The division identifies marketing opportunities, provides analysis to help take advantage of those opportunities and develops and evaluates solutions including improving farmers markets and other direct-to-consumer marketing activities.

Farmers markets, on-farm markets, as well as, community supported agriculture (CSAs) comprise an integral part of the urban/farm linkage and have continued to rise in popularity, mostly due to the growing consumer interest in obtaining fresh products directly from the farm. The use of these direct marketing channels has enabled farmers to receive a larger share of consumer's food dollar. Farmers markets allow consumers to have access to locally grown farm fresh produce; enables farmers the opportunity to develop a personal relationship with their customers; and cultivate consumer loyalty with the farmers. They are also playing an increasing role in encouraging healthier eating.

A farmers market operates multiple times per year and is organized for the purpose of facilitating personal connections that create mutual benefits for local farmers, shoppers and communities. To fulfill that objective, farmers markets define the term local, regularly communicate that definition to the public, and implement rules/guidelines of operation that ensure that the farmers market consists principally of farms selling directly to the public products that the farms have produced.

An on-farm market is an area of a facility affiliated with a farm where transactions between a farm market operator and customers take place. A farm market may operate seasonally or year-round. Farm markets are an important component of direct marketing, adding value by offering customers a visit to the farm and the opportunity to purchase products from the people who grew them.

Community Supported Agriculture (CSA) is a another type of food-production and direct marketing relationship between a farmer or farmers and a group of consumers who purchase “shares” of the season's harvest in advance of the growing season. The up-front working capital generated by selling shares reduces the financial risk to the farmer(s). Generally farmers receive better prices for their crops and, reduced marketing costs. Consumers benefit by receiving weekly delivery of fresh locally-grown fruits, vegetables, meats, eggs and other produce. They also benefit from the ability to collectively support the sustainability of local farmers.

Currently, the USDA farmers market survey is conducted every 4 years and collects information concerning farmers market characteristics. The USDA also collects data on an annual basis to update its listing in the web-based National Farmers Market Directory. There was an overlap in the information that is collected through these two efforts. The revised survey, which will be web-based and data-driven, will collect information not only about farmers markets, but also on on-farm markets and CSAs.

This information that the modified survey collects will be used to update the Directory and also to describe the characteristics of farmers markets, CSAs and on-farm markets and to identify trends in their communities.

Modifying the survey to simultaneously collect information for multiple purposes will increase response rates, reduce duplicity in information collected by respondents, and to add convenience to respondents.

Information currently collected as part of USDA annual Directory update will be incorporated as part of the revised farmers market instrument. Additional questions, related to on-farm markets and CSAs, will be added to the survey. The web-based survey will incorporate an advanced GIS mapping capability, the ability to immediately stratify the respondents and direct them to the survey modules relevant to their characteristics.

Topic areas in the survey:

—Characteristics and history of farmers markets, on-farm markets and CSAs

—Types of products sold, including fresh, locally-grown produce

—Location of the markets

—Programs to encourage healthy eating

—Special events

—Marketing methods

—Participation in federal programs designed to increase consumption of fresh fruits and

vegetables.

—Vendor retention and recruitment

—Market growth and enhancement

—Contribution to economic development

—Awareness and participation in grant and educational programs

—What information do farmers market managers have or how do they derive estimates of number of customers, sales, number of vendors, and vendor characteristics

Estimate of Burden: Public reporting burden for this collection of information is estimated to average 0.317 hours per response.

Respondents: Farmers Market Managers, Operators of Community Supported Agriculture (CSA's), farm operations, farm operators that operate on farm stores.

Estimated Number of Respondents: 64,364.

Estimated Total Annual Responses: 6,000.

Estimated Number of Responses per Respondent: .093.

Estimated Total Annual Burden on Respondents: 2,060 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

The information collected is used only by authorized employees of the USDA, AMS.

All responses to this document will be summarized and included in the request for OMB approval. All comments will become a matter of public record.

Dated: October 26, 2012.
Rex A. Barnes,
Acting Administrator, Agricultural Marketing Service.

[FR Doc. 2012-26956 Filed 11-2-12; 8:45 am]

BILLING CODE 3410-02-P